DEPARTMENT OF AGRICULTURE

Solicitation of Nominations for Membership on the Equity Commission Advisory Committee and Equity Commission Subcommittee on Agriculture Extension of Application Period; Correction

AGENCY: United States Department of Agriculture (USDA).

ACTION: Notice of Correction; extending the nomination application period for the USDA Equity Commission and its Subcommittee on Agriculture.

SUMMARY: The United State Department of Agriculture published a notice of solicitation of nominations for memberships to extend the application period for the Equity Commission Advisory Committee and Equity Commission Subcommittee on Agriculture in the Federal Register on October 27, 2021, titled “Solicitation of Nominations for Membership on the Equity Commission Advisory Committee and Equity Commission Subcommittee on Agriculture Extension of Application Period.” The nomination application period for individuals who wish to serve and/or submit nominations to recommend potential candidates for the Equity Commission and/or Subcommittee on Agriculture has been extended until November 30, 2021. Contrary to what was published in the summary section of (86 FR 59360), this Correction Notice (Correction) is being issued to clarify and confirm that USDA will be accepting nominations for membership until the November 30, 2021 date.

FOR FURTHER INFORMATION CONTACT: Equitycommission@usda.gov or Dewayne L. Goldmon, Ph.D.; telephone: (202) 997-2100; email: dewayne.goldmon@usda.gov.

SUPPLEMENTARY INFORMATION:

Correction

In FR Doc 2021-23425 of October 27, 2021 (86 FR 59360), making the following correction of reference in the summary of the USDA notice on page 59360, in column 1, the November 20, 2021 date is being removed and corrected to November 30, 2021.

Dated: October 27, 2021.
Cikena Reid,
Committee Management Officer, USDA.

[FR Doc. 2021-23826 Filed 11-1-21; 8:45 am]

BILLING CODE 3410-01-P